DEPARTMENT OF THE INTERIOR

National Park Service

[NPS-WASO-NAGPRA-NPS0037386; PPWOCRADN0-PCU00RP14.R50000]

Notice of Inventory Completion: Kansas State University, Manhattan, KS

AGENCY: National Park Service, Interior.

ACTION: Notice.

SUMMARY: In accordance with the Native American Graves Protection and Repatriation Act (NAGPRA), Kansas State University has completed an inventory of human remains and associated funerary objects and has determined that there is a cultural affiliation between the human remains and associated funerary objects and Indian Tribes or Native Hawaiian organizations in this notice. The human remains and associated funerary objects were removed from Saline County, MO.

DATES: Repatriation of the human remains and associated funerary objects in this notice may occur on or after March 18, 2024.

ADDRESSES: Megan Williamson, Department of Sociology, Anthropology, and Social Work, Kansas State University, 204 Waters Hall, 1603 Old Claflin Place, Manhattan, KS 66506-4003, telephone (785) 532-6005, email mwillia1@ksu.edu.

SUPPLEMENTARY INFORMATION: This notice is published as part of the National Park Service's administrative responsibilities under NAGPRA. The determinations in this notice are the sole responsibility of Kansas State University. The National Park Service is not responsible for the determinations in this notice. Additional information on the determinations in this notice, including the results of consultation, can be found in the inventory or related records held by the Kansas State University.

Description

Human remains representing, at minimum, two individuals were removed from Hamner Mounds, 23SA115, in Saline County, MO, four mounds on the bluff edge south of and overlooking the Missouri River. In June and July of 1970, Dr. Patricia J. O'Brien of Kansas State University conducted excavations of three of the mounds (Mounds 1, 2, and 3) with staff and students at the Great Plains Archaeological Field School. The resulting assemblage removed from the mounds were processed and cataloged by field school students during the field school then were taken to Kansas State University for analysis, reporting, and curation, where it has since remained. The human remains consist of two human teeth removed from separate mound excavations. One of the teeth is a maxillary first premolar from Mound 2, identified as from a 9-to-12 year-old subadult of indeterminate sex. The second tooth is fragmented pieces of crown, so no aging was possible. The 360 associated funerary objects are one lot debitage (approximately 4,859 pieces), 147 worked chert, 49 hematite, six limonite, 78 stone tools (16 points, three abraders, five gravers, three choppers, six hammerstones, eight biface, three spokenshaves, three hoe fragments, three scrapers, one polished quartzite slab, and 27 miscellaneous stone tools), 62 ceramic sherds, 13 miscellaneous animal bones, two rocks, one charcoal sample, and one soil core/sample.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical and historical information.

Determinations

Pursuant to NAGPRA and its implementing regulations, and after consultation with the appropriate Indian Tribes and Native Hawaiian organizations, Kansas State University has determined that:

• The human remains described in this notice represent the physical remains of two individuals of Native American ancestry.

• The 360 objects described in this notice are reasonably believed to have been placed with or near individual human remains at the time of death or later as part of the death rite or ceremony.

• There is a relationship of shared group identity that can be reasonably traced between the human remains and associated funerary objects described in this notice and The Osage Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 18, 2024. If competing requests for repatriation are received, Kansas State University must determine the most appropriate requestor prior to repatriation. Requests for joint repatriation of the human remains and associated funerary objects are considered a single request and not competing requests. Kansas State University is responsible for sending a copy of this notice to the Indian Tribes identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 7, 2024.
Melanie O'Brien,
Manager, National NAGPRA Program.

[FR Doc. 2024-03089 Filed 2-14-24; 8:45 am]

BILLING CODE 4312-52-P